DEPARTMENT OF ENERGY

Federal Energy Regulatory Commission

[Docket No. RP00-426-008]

Texas Gas Transmission Corporation; Notice of Compliance Filing

April 2, 2002.

Take notice that on March 27, 2002, Texas Gas Transmission Corporation (Texas Gas) tendered for filing as part of its FERC Gas Tariff, First Revised Volume No. 1, the following tariff sheet to become effective April 1, 2002:

Fourth Revised Sheet No. 40

Texas Gas states that the purpose of this filing is to reflect a new negotiated rate/non-conforming contract in its tariff as required Section 154.112(b) of the Commission's regulations and as directed by Commission Letter Order dated April 27, 2001. The contract is non-conforming due to its capacity release crediting mechanism.

Texas Gas states that copies of the revised tariff sheet is being mailed to the parties on the official service list for this docket number, Texas Gas's jurisdictional customers and interested state commissions.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See 18 CFR 385.2001(a)(1)(iii) and the instructions on the Commission's web site under the “e-Filing” link.

Magalie R. Salas,
Secretary.

[FR Doc. 02-8408 Filed 4-5-02; 8:45 am]

BILLING CODE 6717-01-P